DEPARTMENT OF COMMERCE

Patent and Trademark Office

[Docket No. PTO-P-2016-0025]

Third Annual USPTO Cooperative Patent Classification Meeting With Industry Users

AGENCY: United States Patent and Trademark Office, Commerce.

ACTION: Notice.

SUMMARY: The United States Patent and Trademark Office (USPTO) is hosting its third annual Cooperative Patent Classification (CPC) meeting with industry users at its Alexandria Campus. CPC is a bilateral classification system jointly developed by the USPTO and the European Patent Office (EPO). CPC is jointly managed and maintained by both offices, and is available for public search for classification. The upcoming meeting is open to the public and will inform attendees on the latest and upcoming developments concerning the CPC. The meeting also will be an opportunity for attendees to share their views about the CPC.

DATES: The meeting will be held on Monday, September 19, 2016, beginning at 9:30 a.m. Eastern Daylight Time (EDT), and ending at 5:00 p.m. EDT.

ADDRESSES: The meeting will be held at the USPTO in the Madison Auditorium on the concourse level of the Madison Building located at 600 Dulany Street, Alexandria, Virginia 22314.

FOR MEETING REGISTRATION: There is no fee to register for the meeting and registration will be on a first-come, first-serve basis. Early registration is recommended because seating is limited. Registration on the day of the meeting (September 19, 2016) will be permitted on a space-available basis beginning at 8:30 a.m. EDT.

To register, please provide your name and phone number to CPCannualmeeting@uspto.gov. Registrants also may choose to identify their company or organization, and their position thereat, so that a workshop to be held during the meeting may be best tailored to meet the attendees' needs.

FOR FURTHER INFORMATION CONTACT: Christopher Kim, Director of Classification Quality and International Coordination Division (CQIC), Office of International Patent Classification (OIPC), by telephone at 571-272-7980, or by electronic mail message at CPCannualmeeting@uspto.gov.

SUPPLEMENTARY INFORMATION: The CPC is a detailed classification system in effect at the USPTO and based on the International Patent Classification scheme. The CPC incorporates best classification practices from both the U.S. and European systems.

The USPTO and the EPO designed the CPC to enable patent examiners and patent system users worldwide to conduct more efficient prior art searches. It provides an increased number of breakdowns compared to the U.S. Patent Classification System, allowing for targeted searches with more focused results. The CPC also was designed to encourage work sharing initiatives focused on enhancing efficiency by reducing duplicative work. Additionally, revisions to the CPC system can be made by both Offices on a regular basis, allowing for a rapid response to filing trends and emerging technologies.

At the September 19, 2016 meeting, key USPTO executive staff and project managers will brief attendees on the progress of the CPC, including recent changes and updates to the CPC. Attendees will receive information concerning external user interaction, accessibility, and outreach related to the CPC. In addition, a workshop will be held to provide training on the use of the CPC. Similar informational meetings have been held in Europe.

For further information about the CPC and the September 19, 2016 meeting, including the agenda for the meeting, please visit www.cpcinfo.org.

Dated: August 23, 2016.
Russell Slifer,
Deputy Under Secretary of Commerce for Intellectual Property and Deputy Director of the United States Patent and Trademark Office.

[FR Doc. 2016-20700 Filed 8-26-16; 8:45 am]

BILLING CODE 3510-16-P